POSTAL SERVICE

Board of Governors; Sunshine Act Meeting

DATES AND TIMES: Thursday, May 8, 2014, at 12:45 p.m.; and Friday, May 9, at 8:30 a.m. and 10:30 a.m.

PLACE: Washington, DC, at U.S. Postal Service Headquarters, 475 L'Enfant Plaza SW., in the Benjamin Franklin Room.

STATUS: Thursday, May 8, at 12:45 p.m.—Closed; Friday, May 9, at 8:30 a.m.—Open; and at 10:30 a.m.—Closed

MATTERS TO BE CONSIDERED:

Thursday, May 8, at 12:45 p.m. (Closed)

1. Strategic Issues.

2. Financial Matters.

3. Pricing.

4. Personnel Matters and Compensation Issues.

5. Governors' Executive Session—Discussion of prior agenda items and Board Governance.

Friday, May 9, at 8:30 a.m. (Open)

1. Remarks of the Chairman of the Board.

2. Remarks of the Postmaster General and CEO.

3. Approval of Minutes of Previous Meetings.

4. Committee Reports.

5. Quarterly Report on Financial Performance.

6. Quarterly Service Performance Report.

7. Tentative Agenda for the June 18, 2014, meeting in Washington, DC.

Friday, May 9, at 10:30 a.m. (Closed—if needed)

1. Continuation of Thursday's closed session agenda.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2014-09374 Filed 4-22-14; 11:15 am]

BILLING CODE 7710-12-P